DEPARTMENT OF STATE

[Delegation of Authority No. 278]

Delegation by the Secretary of State to the Assistant Secretary for Near Eastern Affairs of All Authorities Normally Vested in the Under Secretary for Political Affairs

By virtue of the authority vested in me by the laws of the United States, including Section 1 of the State Department Basic Authorities Act of 1956, as amended (22 U.S.C. 2651 a), I hereby delegate to William J. Burns, to the extent authorized by law, all authorities vested in the Under Secretary for Political Affairs, including all authorities vested in the Secretary of State or head of agency that have been or may be delegated or re-delegated to the Under Secretary for Political Affairs.

Any authorities covered by this delegation may also be exercised by the Secretary of State or the Deputy Secretary of State.

Any act, executive order, regulation, or procedure subject to, or affected by, this delegation shall be deemed to be such act, executive order, regulation, or procedure as amended from time to time.

This delegation shall enter into effect upon signature and shall expire upon the appointment and entry upon duty of a new Under Secretary for Political Affairs.

Any re-delegation of authority by the Under Secretary for Political Affairs now in effect shall remain in effect.

This delegation of authority shall be published in the Federal Register.

Dated: February 25, 2005.
Condoleezza Rice,
Secretary of State, Department of State.

[FR Doc. 05-7924 Filed 4-19-05; 8:45 am]

BILLING CODE 4710-08-P